DEPARTMENT OF LABOR

Comment Request for Information Collection for the Trade Adjustment Assistance Community College and Career Training (TAACCCT) Grant Program, New Collection

AGENCY: Employment and Training Administration, Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Trade Adjustment Assistance Community College and Career Training (TAACCCT) grant program.

A copy of the proposed information collection request (ICR) can be obtained by contacting the office listed below in the addressee section of this notice.

DATES: Written comments must be submitted to the office listed in the addressee's section below on or before September 6, 2011.

ADDRESSES: Submit written comments to Brad Wiggins, Room N-4643, Employment and Training Administration, 200 Constitution Avenue, NW., Washington, DC 20210. Telephone number: 202-693-3949 (this is not a toll-free number). Fax: 202-693-3890. E-mail: taaccct@dol.gov.

SUPPLEMENTARY INFORMATION: I. Background: Grantees that are awarded Trade Adjustment Assistance Community College and Career Training (TAACCCT) grants will be required to submit standardized quarterly progress reports and annual performance reports summarizing participant characteristics, progress and implementation measures, and performance outcomes. Progress and implementation measures will be provided in narrative form on a quarterly basis using conclusions drawn from both self-assessments and data to ensure programs are on track toward meeting performance goals and continuously improve grant-funded programs. Outcome measures will be provided annually for both program participants and a comparison cohort for the following measures: Entered employment rate, employment retention rate, average earnings, attainment of credits toward degree(s), attainment of industry-recognized certificates (less than one year), attainment of industry-recognized certificates (more than one year), and graduation number and rate for degree programs.

The collection of this data helps ETA report the impact of these funds and provides ETA with more comprehensive information on the status of individual grants and individuals that receive services and find employment through these grants. The accuracy, reliability, and comparability of program reports submitted by grantees using federal funds are fundamental elements of good public administration and are necessary tools for maintaining and demonstrating system integrity. The use of a standard set of data elements, definitions, and specifications at all levels of the workforce system, including the TAACCCT grants, helps improve the quality of performance information that is received by ETA. This data also helps ETA provide more targeted technical assistance to support improvement of grantee outcomes. ETA will provide TAACCCT grantees with a reporting system which will support the submission of quarterly progress and annual performance reports to ETA, which include both quarterly narrative reports (ETA-9159 Form) and an annual performance report (ETA-9160 Form).

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: New collection.

Title: Trade Adjustment Assistance Community College and Career Training Grants: Quarterly Progress and Annual Performance Reporting Forms & Instructions.

OMB Number: 1205-0NEW.

Affected Public: TACT Grantees and program participants.

Form(s): ETA-9159 and ETA-9160.

Total Annual Respondents: 100.

Annual Frequency: Quarterly.

Total Annual Responses: 168,197.

Average Time per Response: 136.

Estimated Total Annual Burden Hours: 30,420.

Total Annual Burden Cost for Respondents: 0.

Comments submitted in response to this comment request will be summarized and/or included in the request for Office of Management and Budget approval of the information collection request; they will also become a matter of public record.

Dated: June 24, 2011.
Jane Oates,
Assistant Secretary, Employment and Training Administration.

[FR Doc. 2011-16733 Filed 7-1-11; 8:45 am]

BILLING CODE 4510-FN-P